DEPARTMENT OF TRANSPORTATION

Federal Aviation Administration

14 CFR Part 39

[Docket No. FAA-2022-0144; Project Identifier AD-2022-00042-T; Amendment 39-21952; AD 2022-05-01]

RIN 2120-AA64

Airworthiness Directives; Learjet, Inc., Airplanes

AGENCY: Federal Aviation Administration (FAA), DOT.

ACTION: Final rule; request for comments.

SUMMARY: The FAA is adopting a new airworthiness directive (AD) for certain Learjet, Inc., Model 35, 35A (C-21A), 36, 36A, 55, 55B, 55C, and 60 airplanes. This AD was prompted by a report indicating that a repair station approved Learjet spoiler assemblies for return to service after extending their life limit. This AD requires removing certain spoiler assemblies from service and prohibits their installation. The FAA is issuing this AD to address the unsafe condition on these products.

DATES: This AD is effective March 9, 2022.

The FAA must receive comments on this AD by April 8, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket at https://www.regulations.gov by searching for and locating Docket No. FAA-2022-0144; or in person at Docket Operations between 9 a.m. and 5 p.m., Monday through Friday, except Federal holidays. The AD docket contains this final rule, any comments received, and other information. The street address for Docket Operations is listed above.

FOR FURTHER INFORMATION CONTACT: Tara Shawn, Aerospace Engineer, Airframe and Services Section, FAA, Wichita ACO Branch, 1801 Airport Road, Room 100, Wichita, KS 67209; phone: 316-946-4141; email: Tara.Shawn@faa.gov.

SUPPLEMENTARY INFORMATION:

Background

On September 14, 2021, the FAA Kansas City Flight Standards District Office (FSDO) received a report that a repair station, Restored Aircraft Sales and Service, LLC, had approved several Learjet spoiler assemblies for return to service after completing a life limit extension. The Kansas City FSDO notified the Wichita ACO Branch of this issue on September 22, 2021.

Investigation by the Kansas City FSDO and Wichita ACO Branch revealed that after overhauling or repairing spoiler assemblies for Learjet airplanes, the repair station extended the FAA-approved life limit of the spoiler assemblies, in some cases by doubling, the life limit established by Learjet in the airworthiness limitations section of the instructions for continued airworthiness. This maintenance on the spoiler assemblies performed by the repair station constituted a major change in type design. Since the repair station does not hold the type certificate for the affected airplanes, this major change in type design required application for a supplemental type certificate and FAA approval to ensure the structural durability of the spoiler assemblies beyond the established life limit. Instead, the approval for return to service by the repair station lacked references to acceptable data and FAA approval. Documentation received during the investigation suggests that these spoiler assemblies are being used in service beyond the FAA-approved life limit. Furthermore, the investigation specifically identified eight spoiler assemblies that had their life limit extended and were approved for return to service, although there could be more spoiler assemblies subject to the unsafe condition.

Operation of an airplane with a spoiler assembly beyond its FAA-approved life limit, if not addressed, could lead to undetected cracking and consequent failure or separation of the spoiler assembly, resulting in a reduction or complete loss of control of the airplane. The FAA is issuing this AD to address the unsafe condition on these products.

FAA's Determination

The FAA is issuing this AD because the agency has determined that the unsafe condition described previously is likely to exist or develop in other products of the same type design.

AD Requirements

This AD requires removing affected spoiler assemblies (those that have had their life limit extended by Restored Aircraft Sales and Service, LLC, or the maintenance records related to the life limit for the spoiler assembly are missing or incomplete) before further flight. This AD also prohibits the installation of affected spoiler assemblies on the identified Learjet airplane models.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because use of a spoiler assembly beyond its FAA-approved life limit could lead to undetected cracking and consequent failure or separation of the spoiler assembly, resulting in a reduction or complete loss of control of the airplane. Based on the lack of available data that would ensure the strength or durability characteristics of these assemblies beyond their life limit, the FAA has determined that affected spoiler assemblies must be removed before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include Docket No. FAA-2022-0144 and Project Identifier AD-2022-00042-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Tara Shawn, Aerospace Engineer, Airframe and Services Section, FAA, Wichita ACO Branch, 1801 Airport Road, Room 100, Wichita, KS 67209; phone: 316-946-4141; email: Tara.Shawn@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects at least 8 spoiler assemblies. The FAA estimates the following costs to comply with this AD, based on the assumption that all affected spoiler assemblies are installed on airplanes of U.S. registry:

Estimated Costs *
Action | Labor cost | Parts cost | Cost per spoiler assembly | Cost on U.S. operators
Spoiler assembly replacement | 70 work-hours × $85 per hour = $5,950 | $44,039 | $49,989 | $399,912
* Each airplane contains two spoiler assemblies.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-05-01 Learjet, Inc.: Amendment 39-21952; Docket No. FAA-2022-0144; Project Identifier AD-2022-00042-T.

(a) Effective Date

This airworthiness directive (AD) is effective March 9, 2022.

(b) Affected ADs

None.

(c) Applicability

This AD applies to Learjet, Inc., Model 35, 35A (C-21A), 36, 36A, 55, 55B, 55C, and 60 airplanes, certificated in any category, with any spoiler assembly that meets any of the criteria identified in paragraph (c)(1) or (2) of this AD.

(1) The spoiler assembly's life limit was extended by Restored Aircraft Sales and Service, LLC.

(2) The maintenance records related to the life limit for the spoiler assembly are missing or incomplete.

(d) Subject

Air Transport Association (ATA) of America Code 5755, Spoilers.

(e) Unsafe Condition

This AD was prompted by a report indicating that a repair station performed a life extension program on spoiler assemblies that had reached or were close to reaching their life limit. The FAA is issuing this AD to prevent use of a spoiler assembly beyond its FAA-approved life limit, which could lead to undetected cracking and consequent failure or separation of the spoiler assembly, resulting in a reduction or complete loss of control of the airplane.

(f) Compliance

Comply with this AD within the compliance times specified, unless already done.

(g) Spoiler Assembly Removal

For each spoiler assembly identified in paragraph (c) of this AD: Remove the spoiler assembly from service before further flight.

(h) Parts Installation Prohibition

As of the effective date of this AD, no person may install, on any airplane, a spoiler assembly identified in paragraph (c) of this AD.

(i) Special Flight Permit

Special flight permits, as described in 14 CFR 21.197 and 21.199, may be issued to operate the airplane to a location where the requirements of this AD can be accomplished, but concurrence by the Manager, Wichita ACO Branch, FAA, is required before issuance of the special flight permit.

(j) Alternative Methods of Compliance (AMOCs)

(1) The Manager, Wichita ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD.

(2) Before using any approved AMOC, notify your appropriate principal inspector, or lacking a principal inspector, the manager of the responsible Flight Standards Office.

(k) Related Information

For more information about this AD, contact Tara Shawn, Aerospace Engineer, Airframe and Services Section, FAA, Wichita ACO Branch, 1801 Airport Road, Room 100, Wichita, KS 67209; phone: 316-946-4141; email: Tara.Shawn@faa.gov.

(l) Material Incorporated by Reference

None.

Issued on February 16, 2022.
Lance T. Gant,
Director, Compliance & Airworthiness Division, Aircraft Certification Service.

[FR Doc. 2022-03805 Filed 2-17-22; 11:15 am]

BILLING CODE 4910-13-P